DEPARTMENT OF THE INTERIOR

National Park Service

[NPS-WASO-NAGPRA-NPS0040447; PPWOCRADN0-PCU00RP14.R50000]

Notice of Inventory Completion Amendment: San José State University, San José, CA

AGENCY: National Park Service, Interior.

ACTION: Notice; amendment.

SUMMARY: In accordance with the Native American Graves Protection and Repatriation Act (NAGPRA), San José State University has amended a notice of inventory completion published in the Federal Register on January 3, 2024. This notice amends the Indian Tribes listed in the original notice.

DATES: Repatriation of the human remains and associated funerary objects may occur on or after July 28, 2025.

ADDRESSES: Send written requests for repatriation of the cultural items in this notice to Alisha Marie Ragland, San José State University, One Washington Square, San Jose, CA 95192, email alisha.ragland@sjsu.edu.

SUPPLEMENTARY INFORMATION: This notice is published as part of the National Park Service's administrative responsibilities under NAGPRA. The determinations in this notice are the sole responsibility of San José State University, and additional information on the determinations in this notice, including the results of consultation, can be found in its inventory or related records. The National Park Service is not responsible for the determinations in this notice.

Amendment

This notice amends the list of Indian Tribes published in a notice of inventory completion in the Federal Register (89 FR 393, January 3, 2024). Repatriation of the human remains and associated funerary objects in the original notice of inventory completion has not occurred.

Determinations

San Jose State University has determined that:

• The human remains and associated funerary objects described in the original notice were removed from the aboriginal land of the Big Sandy Rancheria of Western Mono Indians of California; Buena Vista Rancheria of Me-Wuk Indians of California; California Valley Miwok Tribe, California; Chicken Ranch Rancheria of Me-Wuk Indians of California; Ione Band of Miwok Indians of California; Jackson Band of Miwuk Indians; Picayune Rancheria of Chukchansi Indians of California; Santa Rosa Indian Community of the Santa Rosa Rancheria, California; Table Mountain Rancheria; and the Tule River Indian Tribe of the Tule River Reservation, California.

Requests for Repatriation

Written requests for repatriation of the human remains and associated funerary objects in the original notice must be sent to the authorized representative identified in this notice under ADDRESSES. Requests for repatriation may be submitted by:

1. Any one or more of the Indian Tribes or Native Hawaiian organizations identified in this notice.

2. Any lineal descendant, Indian Tribe, or Native Hawaiian organization not identified in this notice who shows, by a preponderance of the evidence, that the requestor is a lineal descendant or an Indian Tribe or Native Hawaiian organization with cultural affiliation.

Repatriation of the human remains and associated funerary objects described in the original notice to a requestor may occur on or after July 28, 2025. If competing requests for repatriation are received, San José State University must determine the most appropriate requestor prior to repatriation. Requests for joint repatriation of the human remains and associated funerary objects are considered a single request and not competing requests. San José State University is responsible for sending a copy of this notice to the Indian Tribes and Native Hawaiian organizations identified in this notice and any other consulting parties.

Authority: Native American Graves Protection and Repatriation Act, 25 U.S.C. 3003, and the implementing regulations, 43 CFR 10.10.

Dated: June 17, 2025.
Melanie O'Brien,
Manager, National NAGPRA Program.

[FR Doc. 2025-11934 Filed 6-26-25; 8:45 am]

BILLING CODE 4312-52-P